DEPARTMENT OF TRANSPORTATION

Federal Aviation Administration

14 CFR Part 39

[Docket No. FAA-2016-2843; Directorate Identifier 2015-SW-003-AD; Amendment 39-18392; AD 2016-03-05]

RIN 2120-AA64

Airworthiness Directives; Airbus Helicopters Deutschland GmbH Helicopters

AGENCY: Federal Aviation Administration (FAA), Department of Transportation (DOT).

ACTION: Final rule; request for comments.

SUMMARY: We are superseding airworthiness directive (AD) 2014-13-01 for Airbus Helicopters Deutschland GmbH (Airbus Helicopters) Model MBB-BK 117 C-2 helicopters with a certain Goodrich rescue hoist damper unit (damper unit) installed. AD 2014-13-01 required repairing or replacing the damper unit or deactivating the rescue hoist. AD 2014-13-01 was prompted by a report of an uncommanded detachment of a damper unit from the cable. This new AD retains the optional requirement of deactivating the rescue hoist, expands the applicability, and requires either replacing or modifying the damper unit with a newly developed single-piece retainer. These actions are intended to prevent the hoist damper unit detaching from the cable resulting in loss of an external load or person from the helicopter hoist and injury to persons being lifted by the hoist.

DATES: This AD becomes effective February 24, 2016.

The Director of the Federal Register approved the incorporation by reference of certain documents listed in this AD as of February 24, 2016.

We must receive comments on this AD by April 11, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-2843; or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

FOR FURTHER INFORMATION CONTACT: David N. Hatfield, Aviation Safety Engineer, Safety Management Group, Rotorcraft Directorate, FAA, 10101 Hillwood Pkwy., Fort Worth, TX 76177; telephone (817) 222-5110; email david.hatfield@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On June 13, 2014, we issued AD 2014-13-01, Amendment 39-17875 (79 FR 36635, June 30, 2014), to correct an unsafe condition for Airbus Helicopters Model MBB-BK 117 C-2 helicopters with certain part-numbered damper units installed. AD 2014-13-01 required either repairing the damper unit, replacing the damper unit with a repaired damper unit, or deactivating the rescue hoist system.

AD 2014-13-01 was prompted by AD No. 2014-0057, dated March 6, 2014, and corrected March 7, 2014, issued by EASA, which is the Technical Agent for the Member States of the European Union. EASA advised that a damper unit detached from the cable when the hoist damper was lifted by hand with no load attached. According to EASA, the retaining ring inside the damper unit was not located in the proper position because of a maintenance error or as a result of interference with the bonding strap unit during normal use. To address this unsafe condition, EASA AD No. 2014-0057 required modifying the bonding strap unit installation with an improved retaining ring and post-modification repetitive inspection.

Actions Since AD 2014-13-01 Was Issued

Since we issued AD 2014-13-01, a damper unit with the improved retaining ring detached from its strap. Additionally, this damper unit was approved for installation on Airbus Helicopters Model MBB-BK 117 D-2 helicopters. EASA issued Emergency AD No. 2015-0019-E, dated February 5, 2015, which superseded EASA AD No. 2014-0057, to add Model MBB-BK117 D-2 helicopters to the applicability. Airbus subsequently introduced a new single-piece retainer part number (P/N) B851M2060201 to strengthen the interconnection of the damper unit and attached cable.

EASA has revised Emergency AD No. 2015-0019-E by issuing EASA AD No. 2015-0019R1, dated February 13, 2015, for Model MBB-BK117 C-2 and MBB-BK117 D-2 helicopters with a Goodrich external mounted hoist. EASA AD No. 2015-0019R1 introduces installation of single-piece retainer P/N B851M2060201 as an option for compliance and allows installation of damper units provided if equipped with the new single-piece retainer.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs.

Related Service Information Under 1 CFR Part 51

We reviewed Airbus Helicopters Emergency Alert Service Bulletin (ASB) No. ASB MBB-BK117 C-2-85A-041, Revision 4, dated February 12, 2015, for Model MBB-BK 117 C-2 helicopters and Emergency ASB No. ASB MBB-BK117 D-2-85A-002, Revision 1, dated February 12, 2015, for Model MBB-BK 117 D-2 helicopters. These Emergency ASBs specify replacing the split retainers with a single-piece retainer and re-identifying the damper housing.

This service information is reasonably available because the interested parties have access to it through their normal course of business or by the means identified in the ADDRESSES section.

AD Requirements

This AD requires, before the next hoist operation, either replacing the damper unit with a unit that has been repaired in accordance with the service information, deactivating the rescue hoist, or replacing each split retainer with a single-piece retainer and marking the damper housing in accordance with the service information.

Costs of Compliance

We estimate that this AD affects 137 helicopters of U.S. Registry. We estimate that operators may incur the following costs in order to comply with this AD. Labor costs are estimated at $85 per work-hour. We estimate it takes 1 work-hour to replace a damper unit and $8,715 for the required parts for a total cost of $8,800 per helicopter. We estimate it takes 0.5 work-hour to deactivate a rescue hoist for a total cost of $43 per helicopter. We estimate it takes 2 work-hours to replace the split retainer with a single-piece retainer and $171 for the required parts for a total cost of $341 per helicopter.

FAA's Justification and Determination of the Effective Date

Providing an opportunity for public comments prior to adopting these AD requirements would delay implementing the safety actions needed to correct this known unsafe condition. Therefore, we find that the risk to the flying public justifies waiving notice and comment prior to the adoption of this rule because the required corrective actions must be completed before the next hoist operation.

Since an unsafe condition exists that requires the immediate adoption of this AD, we determined that notice and opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-13-01, Amendment 39-17875 (79 FR 36635, June 30, 2014), and adding the following new AD:

2016-03-05 Airbus Helicopters Deutschland GmbH: Amendment 39-18392; Docket No. FAA-2016-2843; Directorate Identifier 2015-SW-003-AD.

(a) Applicability

This AD applies to Model MBB-BK 117 C-2 and MBB-BK 117 D-2 helicopters with a Goodrich hoist damper unit, part number (P/N) 44307-480, 44307-480-1, or 44307-480-2 installed, certificated in any category.

(b) Unsafe Condition

This AD defines the unsafe condition as uncommanded detachment of the external hoist damper unit, which could result in loss of an external load or person from the helicopter hoist, resulting in injury to persons being lifted by the hoist.

(c) Affected ADs

This AD supersedes AD 2014-13-01, Amendment 39-17875 (79 FR 36635, June 30, 2014).

(d) Effective Date

This AD becomes effective February 24, 2016.

(e) Compliance

You are responsible for performing each action required by this AD within the specified compliance time unless it has already been accomplished prior to that time.

(f) Required Actions

Before the next hoist operation, comply with paragraph (f)(1), (f)(2), or (f)(3) of this AD:

(1) Replace the split retainers and re-identify each hoist damper unit in accordance with the Accomplishment Instructions, paragraph 3.B.1, of Airbus Helicopters Emergency Alert Service Bulletin (ASB) No. ASB MBB-BK117 C-2-85A-041, Revision 4, dated February 12, 2015, or Emergency ASB No. ASB MBB-BK117 D-2-85A-002, Revision 1, dated February 12, 2015, as applicable to your model helicopter; or

(2) Replace each hoist damper unit with a unit that has been repaired as required by paragraph (f)(1) of this AD; or

(3) Deactivate the rescue hoist system.

(g) Alternative Methods of Compliance (AMOCs)

(1) The Manager, Safety Management Group, FAA, may approve AMOCs for this AD. Send your proposal to: David N. Hatfield, Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2015-0019R1, dated February 13, 2015. You may view the EASA AD on the Internet at http://www.regulations.gov by searching for and locating it in Docket No. FAA-2016-2843.

(i) Subject

Joint Aircraft Service Component (JASC) Code: 2500, Cabin Equipment/Furnishings.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin (ASB) No. ASB MBB-BK117 C-2-85A-041, Revision 4, dated February 12, 2015.

(ii) Airbus Helicopters Emergency ASB No. ASB MBB-BK117 D-2-85A-002, Revision 1, dated February 12, 2015.

(3) For Airbus Helicopters service information identified in this final rule, contact Airbus Helicopters, 2701 N. Forum Drive, Grand Prairie, TX 75052; telephone (972) 641-0000 or (800) 232-0323; fax (972) 641-3775; or at http://www.airbushelicopters.com/techpub.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 29, 2016.
Lance T. Gant,
Manager, Rotorcraft Directorate, Aircraft Certification Service.

[FR Doc. 2016-02233 Filed 2-8-16; 8:45 am]

BILLING CODE 4910-13-P